DEPARTMENT OF JUSTICE

Notice of Lodging of Consent Decree Under the Comprehensive Environmental Response, Compensation, and Liability Act

Under 42 U.S.C. 9622(d)(2) and 28 CFR 50.7, notice is hereby given that on March 5, 2004, a proposed Consent Decree in United States et al. v. Adams Family Trust, et al., Civil Action Number CV 04-1490-RSWL (CWx), was lodged with the United States District Court for the Central District of California.

The consent decree resolves claims against 38 defendants brought by the United States on behalf of the Environmental Protection Agency (“EPA”) and by the California Department of Toxic Substances Control (“DTSC”) under sections 106 and 107 of the Comprehensive Environmental Response, Compensation, and Liability Act (“CERCLA”), 42 U.S.C. 9606 and 9607, for response costs incurred and to be incurred by EPA and DTSC in responding to the release and threatened release of hazardous substances at the El Monte Operable Unit of the San Gabriel Valley Area 1 Superfund Site in Los Angeles County, California. Under the Consent Decree, the Defendants will pay $1,932,500 plus interest for past costs, pay all of EPA and DTSC's future costs relating to the interim remedy for the El Monte Operable Unit, and perform the interim remedy for the El Monte Operable Unit. The United States and DTSC covenant not to sue the 38 Defendants regarding the past costs, the interim remedy work, and future costs associated with the interim remedy work required to be performed under the Consent Decree.

The Department of Justice will receive, for a period of thirty (30) days from the date of this publication, comments relating to the Consent Decree. Comments should be addressed to the Assistant Attorney General, Environment and Natural Resources Division, P.O. Box 7611, U.S. Department of Justice, Washington, DC 20044-7611, and should refer to United States et al. v. Adams Family Trust, et al., DOJ Ref. #90-11-2-354/3. Commenters may request an opportunity for a public meeting in the affected area, in accordance with section 7003(d) of RCRA, 42 U.S.C. 6973(d).

The Consent Decree may be examined at the Office of the United States Attorney, 300 North Los Angeles Street, Los Angeles, California 90012, and the Region IX Office of the Environmental Protection Agency, 75 Hawthorne Street, San Francisco, CA 94105. During the public comment period, the Consent Decree may also be examined on the following Department of Justice Web site: www.usdoj.gov/enrd/open.html. A copy of the Consent Decree may also be obtained by mail from the Consent Decree Library, P.O. Box 7611, U.S. Department of Justice, Washington, DC 20041-7611, or by faxing or e-mailing a request to Tonia Fleetwood, tonia.fleetwood@usdoj.gov, Fax No. (202) 514-0097, phone confirmation number (202) 514-1547. In requesting a copy from the Consent Decree Library, please enclose a check in the amount of $25.50 (25 cents per page reproduction cost) payable to the U.S. Treasury, to obtain a copy of the Consent Decree, excluding the numerous pages of attachments. To obtain the entire Consent Decree, including all attachments, please enclose a check in the amount of $82.75 payable to the U.S. Treasury.

W. Benjamin Fisherow,
Deputy Chief, Environmental Enforcement Section, Environment and Natural Resources Division.

[FR Doc. 04-6058 Filed 3-17-04; 8:45 am]

BILLING CODE 4410-15-M